DEPARTMENT OF COMMERCE

International Trade Administration

[A-565-801]

Notice of Preliminary Determination of Sales at Less Than Fair Value: Stainless Steel Butt-Weld Pipe Fittings From the Philippines.

AGENCY: Import Administration, International Trade Administration, Department of Commerce.

EFFECTIVE DATE: August 2, 2000.

FOR FURTHER INFORMATION CONTACT: Fred Baker or Robert James at (202) 482-2924 and (202) 482-0649, respectively, Import Administration, International Trade Administration, U.S. Department of Commerce, 14th Street and Constitution Avenue, NW, Washington, DC 20230.

The Applicable Statute and Regulations

Unless otherwise indicated, all citations to the statute are references to the provisions effective January 1, 1995, the effective date of the amendments made to the Tariff Act of 1930 (the Act) by the Uruguay Round Agreements Act (URAA). In addition, unless otherwise indicated, all citations to the Department of Commerce (Department) regulations are to the regulations at 19 CFR part 351 (April 1, 2000).

Preliminary Determination

We preliminarily determine that stainless steel butt-weld pipe fittings from the Philippines are being, or are likely to be, sold in the United States at less than fair value (LTFV), as provided in section 733 of the Act. The estimated margin of sales at LTFV is shown in the “Suspension of Liquidation” section of this notice.

Case History

On January 18, 2000, the Department initiated antidumping investigations of stainless steel butt-weld pipe fittings from Germany, Italy, Malaysia, and the Philippines. See Initiation of Antidumping Duty Investigation: Stainless Steel Butt-Weld Pipe Fittings from Germany, Italy, Malaysia and the Philippines, 65 FR 4595, (January 31, 2000) (Initiation Notice). Since the initiation of this investigation the following events have occurred.

The Department set aside a period for all interested parties to raise issues regarding product coverage (see Initiation Notice, 65 FR at 4596). We received a response from Coprosider S.p.A. (Coprosider) on February 1, 2000, agreeing with the scope of the investigation. On February 3, 2000, Wilh. Schulz GmbH (Schulz) submitted comments to the Department requesting that the scope be limited only to specification ASTM 403/403M fittings below 14 inches in diameter.

On January 21, 2000 the Department issued proposed product concordance criteria to all interested parties. On February 4, 2000, the following interested parties submitted comments on our proposed product concordance criteria: Kanzen Tetsu Sdn. Bdh.; Coprosider; and Alloy Piping Products, Inc.; Flowline Division of Markovitz Enterprises, Inc.; Gerlin, Inc.; and Taylor Forge Stainless, Inc. (petitioners). On February 8, 2000 and February 18, 2000, Schulz filed its comments on our proposed concordance.

On February 14, 2000, the United States International Trade Commission (ITC) notified the Department of its affirmative preliminary injury determination on imports of subject merchandise from Germany, Italy, Malaysia and the Philippines. On February 24, 2000, the ITC published its preliminary determination that there is a reasonable indication that an industry in the United States is materially injured by reason of imports of the subject merchandise from Germany, Italy, Malaysia and the Philippines. See Certain Stainless Steel Butt-Weld Pipe Fittings from Germany, Italy, Malaysia, and the Philippines, 65 FR 9298, (February 24, 2000) (ITC Preliminary Determination).

On January 24, 2000, the Department issued Section A of its antidumping duty questionnaire to Enlin Steel Corporation (Enlin) and Tung Fong Industrial Co., Inc., (Tung Fong). On February 7, 2000, the Department received Enlin's and Tung Fong's responses to Question 1 of Section A. The Department received the remainder of Enlin's and Tung Fong's section A responses on February 22, 2000. On March 1, 2000, the Department issued a memorandum announcing its determination that it would only be able to analyze the response of Enlin in this investigation. On March 2, 2000, petitioners filed comments on Tung Fong's section A response. On March 6, 2000, Tung Fong requested to be a voluntary respondent. On March 9, 2000, the Department issued sections B-E of its antidumping duty questionnaire to Enlin, requesting that Enlin respond to sections B and C. On March 15, 2000, petitioners submitted comments on Enlin's section A response. On May 1, 2000, the Department received from Enlin its response to sections B and C of the Department's questionnaire. Also on May 1, 2000, Tung Fong submitted a voluntary section B and C questionnaire response. On May 19, 2000, petitioners submitted comments on Enlin's sections B and C responses. On May 21, 2000, petitioners alleged that sales had been made below the cost of production (COP) in Enlin's third-country market. On June 1, 2000, the Department issued to Enlin a supplemental questionnaire with respect to its sections A, B and C responses. Also on June 1, 2000, the Department initiated a COP investigation with respect to Enlin's third-country sales. On June 2, 2000, the Department requested that Enlin respond to section D of the March 9, 2000 questionnaire. On June 22, 2000, six days after the due date for Enlin's response to the supplemental questionnaire, Enlin informed the Department that it would not respond any further to the Department's requests for information. On June 27, 2000, petitioners submitted comments on Tung Fong's sections B and C responses. On June 30, 2000, petitioners alleged critical circumstances exist with respect to imports of subject merchandise from the Philippines. Tung Fong made a voluntary section D response on July 5, 2000. On July 11, 2000, petitioners submitted comments on Tung Fong's section D response. On July 14, 2000, the Department issued a supplemental questionnaire to Tung Fong regarding its sections A, B, C, and D responses.

In addition, on April 13, 2000, the Department published in the Federal Register a notice postponing the preliminary determination until July 26, 2000. See Notice of Postponement of Preliminary Antidumping Duty Determinations: Stainless Steel Butt-weld Pipe Fittings from Germany, Italy, Malaysia and the Philippines, 65 FR 19876 (April 13, 2000).

Scope of Investigation

For purposes of this investigation, the product covered is certain stainless steel butt-weld pipe fittings. Certain stainless steel butt-weld pipe fittings are under 14 inches in outside diameter (based on nominal pipe size), whether finished or unfinished. The product encompasses all grades of stainless steel and “commodity” and “specialty” fittings. Specifically excluded from the definition are threaded, grooved, and bolted fittings, and fittings made from any material other than stainless steel.

The fittings subject to these investigations are generally designated under specification ASTM A403/A403M, the standard specification for Wrought Austenitic Stainless Steel Piping Fittings, or its foreign equivalents (e.g., DIN or JIS specifications). This specification covers two general classes of fittings, WP and CR, of wrought austenitic stainless steel fittings of seamless and welded construction covered by the latest revision of ANSI B16.9, ANSI B16.11, and ANSI B16.28. Pipe fittings manufactured to specification ASTM A774, or its foreign equivalents, are also covered by these investigations.

These investigations do not apply to cast fittings. Cast austenitic stainless steel pipe fittings are covered by specifications A351/A351M, A743/743M, and A744/A744M.

The stainless steel butt-weld pipe fittings subject to these investigations are currently classifiable under subheading 7307.23.0000 of the Harmonized Tariff Schedule of the United States (HTSUS). Although the HTSUS subheadings are provided for convenience and customs purposes, the written description of the scope of this investigation is dispositive.

Period of Investigation

The period of investigation (POI) is October 1, 1998 through September 30, 1999.

Selection of Respondents

Section 777A(c)(1) of the Act directs the Department to calculate individual dumping margins for each known exporter and producer of the subject merchandise. However, section 777A(c)(2) of the Acts gives the Department discretion, when faced with a large number of exporters/producers, to limit its examination to a reasonable number of such companies if it is not practicable to examine all companies. Where it is not practicable to examine all known producers/exporters of subject merchandise, this provision permits the Department to investigate either: (1) A sample of exporters, producers, or types of products that is statistically valid based on the information available at the time of selection, or (2) exporters and producers accounting for the largest volume of the subject merchandise that can be reasonably examined.

After consideration of the complexities expected to arise in these proceedings and the resources available to the Department, we determined that it was not practicable in these investigations to examine all known producers/exporters of subject merchandise. With respect to the Philippines, we determined that, given our resources, we would be able to investigate only one such company. We selected Enlin as the mandatory respondent for the Philippines because it was the respondent with the greatest export volume. (For a more detailed discussion of respondent selection in these investigations, see the Department's Respondent Selection Memorandum dated March 1, 2000, available in room B-099 of the Department of Commerce building.) However, following Enlin's withdrawal from the investigation on June 22, 2000, the Department determined to investigate Tung Fong as a voluntary respondent. Upon review of Tung Fong's response, we found that we needed additional information from Tung Fong before we could calculate a dumping margin. We found, for instance, that there were inconsistencies in the reporting of some control numbers. Tung Fong had also failed to provide invoice dates on its sales listings, and had not supplied complete sample sales documentation. It had also not reported all of the sales adjustments necessary to make a dumping calculation. There also appeared to be discrepancies on the record regarding the amount of Tung Fong's input material costs. Thus, as noted above, we issued Tung Fong a supplemental questionnaire on July 14, 2000. However, insufficient time remained for Tung Fong to respond to the supplemental questionnaire and for the Department to analyze it prior to the due date for the preliminary determination. Tung Fong's response is due July 28, 2000. We will make a calculation of Tung Fong's dumping margin and issue an analysis following issuance of this preliminary determination as soon as practicable. We will disclose the results of this calculation and the analysis incorporated therein to the interested parties; a public version of this analysis will be available to the public in room B-099 of the main Commerce Building.

Facts Available

As noted above under “Case History,” Enlin failed to respond to the Department's supplemental questionnaire regarding its sections A, B, and C responses, and notified the Department that it did not intend to respond any further to the Department's requests for information. Section 776(a)(2) of the Act provides that if an interested party (A) withholds information that has been requested by the Department; (B) fails to provide such information in a timely manner or in the form or manner requested, subject to section 782(c)(1) and (e) of the Act; (C) significantly impedes a proceeding under the antidumping statute; or (D) provides such information but the information cannot be verified, the Department shall, subject to subsection 782(d) of the Act, use the facts otherwise available in reaching the applicable determination. Because Enlin failed to respond to our request for additional information, pursuant to section 776(a)(2) of the Act we resorted to the facts otherwise available to calculate the dumping margin for this company.

Section 776(b) of the Act provides that the Department may use an inference adverse to the interests of a party that has failed to cooperate by not acting to the best of its ability to comply with the Department's requests for necessary information. See also, Statement of Administrative Action accompanying the URAA, H.R. Rep. No. 103-316 (1994) (SAA) at 870. Failure by Enlin to respond to the Department's supplemental questionnaire constitutes a failure to act to the best of its ability to comply with a request for information within the meaning of section 776 of the Act. Because Enlin failed to respond, the Department has determined that, in selecting among the facts otherwise available, an adverse inference is warranted in selecting the facts available for this company.

Because we were unable to calculate a margin for Enlin, we assigned it the highest margin alleged in the amended petition calculations, submitted January 10, 2000. See, Notice of Preliminary Determination of Sales at Less Than Fair Value: Stainless Steel Wire Rod from Germany, 63 FR 10847 (March 5, 1998). The highest petition margin is 60.17 percent. See Initiation Notice, 65 FR at 4599.

Section 776(b)(1) of the Act states that an adverse inference may include reliance on information derived from the petition. See also, SAA at 829-831. Section 776(c) of the Act provides that, when the Department relies on secondary information (e.g., the petition) in using the facts otherwise available, it must, to the extent practicable, corroborate that information from independent sources that are reasonably at its disposal.

The SAA clarifies that “corroborate” means that the Department will satisfy itself that the secondary information to be used has probative value (see, SAA at 870). The SAA also states that independent sources used to corroborate such evidence may include, for example, published price lists, official import statistics and customs data, and information obtained from interested parties during the particular investigation (see, SAA at 870).

We reviewed the adequacy and accuracy of the information in the petition during our pre-initiation analysis of the petition to the extent appropriate information was available for this purpose. See, Import Administration AD Investigation Initiation Checklist (January 18, 2000) for a discussion of the margin calculations in the petition. In addition, in order to determine the probative value of the margins in the petition for use as adverse facts available for purposes of this determination, we examined the evidence supporting the calculations in the petition. In accordance with section 776(c) of the Act, to the extent practicable, we examined the key elements of the export price (EP) and normal value (NV) calculations on which the margins in the petitions were based. Our review of the EP and NV calculations indicated that the information in the petition has probative value, as certain information included in the margin calculations in the petition is from public sources concurrent, for the most part, with the POI (e.g., inland freight, international freight and insurance, import duties). For purposes of this preliminary determination, the Department compared the export prices alleged by the petitioners for sales to the first unaffiliated purchasers with contemporaneous, average unit prices values of U.S. imports classified under the appropriate HTS number. See Import Administration AD Investigation Initiation Checklist, January 18, 2000, pp. 3-4. We noted that the unit values of the U.S. price quotes submitted by the petitioners were well within the range of the average unit values reported by U.S. Customs. U.S. official import statistics are sources which we consider to require no further corroboration by the Department. See Notice of Final Determination of Sales at Less Than Fair Value: Collated Roofing Nails from the People's Republic of China, 62 FR 51410, 51412, (October 1, 1997).

However, with respect to certain other data included in the margin calculations of the petition (e.g., home market unit prices), neither respondents nor other interested parties provided the Department with further relevant information and the Department is aware of no other independent sources of information that would enable it to further corroborate the remaining components of the margin calculation in the petition. The implementing regulation for section 776 of the Act, 19 CFR 351.308(d), states “[t]he fact that corroboration may not be practicable in a given circumstance will not prevent the Secretary from applying an adverse inference as appropriate and using the secondary information in question.” Additionally, we note that the SAA at 870 specifically states that, where “corroboration may not be practicable in a given circumstance,” the Department may nevertheless apply an adverse inference. Furthermore, as indicated above, the Department corroborated numerous parts of the petition, including the contemporaneity of the adjustments and the range of the U.S. price quotes as compared to U.S. selling prices recorded by Customs data. Accordingly, we find, for purposes of this preliminary determination, that this information is corroborated to the extent practicable. We will further consider this issue for the final determination based upon any additional information available to the Department at that time.

All Others

On March 6, 2000 Tung Fong requested that it be permitted to participate as a voluntary respondent in this investigation. It submitted voluntary responses to sections B and C of the questionnaire on March 1, 2000, and a voluntary section D response on July 5, 2000. (Tung Fong had submitted mandatory section A responses on February 7, 2000 and February 22, 2000.) It voluntarily submitted additional information in a June 27, 2000 submission following comments from petitioners submitted June 6 and June 23, 2000. We issued a supplemental questionnaire to Tung Fong on July 14, 2000, the response for which is due July 28, 2000. We will make a preliminary calculation of Tung Fong's dumping margin and issue an analysis following issuance of this preliminary determination. In this preliminary determination, we have assigned Tung Fong the non-adverse all-others rate, as described below, because currently there is insufficient information available for us to calculate a separate margin for Tung Fong.

Section 735(c)(5)(B) of the Act provides that, where the estimated weighted-average dumping margins established for all exporters and producers individually investigated are zero or de minimis or are determined entirely under section 776 of the Act, the Department may use any reasonable method to establish the estimated all-others rate for exporters and producers not individually investigated. Our recent practice under these circumstances has been to assign as the “all others” rate the simple average of the margins in the petition. See, e.g., Notice of Final Determination of Sales at Less Than Fair Value: Stainless Steel Plate in Coil from Canada, 64 FR 15457 (March 31, 1999); Notice of Final Determination of Sales at Less Than Fair Value: Stainless Steel Plate in Coil from Italy, 64 FR 15458, 15459 (March 21, 1999). In accordance with our recent practice, we are basing the “all others” rate in this investigation on the simple average of margins in the petition, which is 34.67 percent.

Critical Circumstances

On June 30, 2000, the petitioners made a timely allegation that there is a reasonable basis to believe or suspect that critical circumstances exist with respect to imports of subject merchandise from the Philippines. According to section 733(e)(1) of the Act, if critical circumstances are alleged under section 733(e) of the Act, the Department must examine whether there is a reasonable basis to believe or suspect that: (A)(i) there is a history of dumping and material injury by reason of dumped imports in the United States or elsewhere of the subject merchandise, or (ii) the person by whom, or for whose account, the merchandise was imported knew or should have known that the exporter was selling the subject merchandise at less than its fair value and there was likely to be material injury by reason of such sales, and (B) there have been massive imports of the subject merchandise over a relatively short period. Section 351.206(h)(1) of the Department's regulations provides that, in determining whether imports of the subject merchandise have been “massive,” the Department normally will examine: (i) the volume and value of the imports; (ii) seasonal trends; and (iii) the share of domestic consumption accounted for by the imports. In addition, section 351.206(h)(2) of the Department's regulations provides that an increase in imports during the “relatively short period” of over 15 percent may be considered “massive.” Section 351.206(i) of the Department's regulations defines “relatively short period” normally as the period beginning on the date the proceeding begins (i.e., the date the petition is filed) and ending at least three months later.

Because we are not aware of any antidumping order in any country on stainless steel butt-weld pipe fittings from the Philippines, we do not find that there is a reasonable basis to believe or suspect that there is a history of dumping and material injury by reason of dumped imports in the United States or elsewhere. Therefore, we must look to whether there was importer knowledge under section 733(e)(1)(A)(ii) of the Act.

In determining whether there is a reasonable basis to believe or suspect that an importer knew or should have known that the exporter was selling the subject merchandise at less than fair value, the Department's normal practice is to consider margins of 15 percent or more sufficient to impute knowledge of dumping for constructed export price sales (CEP), and margins of 25 percent or more sufficient to impute knowledge for EP sales. See, Certain Cut-to-Length Carbon Steel Plate From the People's Republic of China: Preliminary Determination of Sales at Less Than Fair Value, 62 FR 31972, 31978 (June 11, 1997). As discussed above, we have applied, as adverse facts available for Enlin, the highest of the dumping margins presented in the petition and corroborated by the Department. This margin is in excess of 25 percent. Therefore, we impute knowledge of dumping in regard to exports by this company.

In determining whether there is a reasonable basis to believe or suspect that an importer knew or should have known that there was likely to be material injury by reason of dumped imports, the Department normally looks to the preliminary injury determination of the ITC. If the ITC finds a reasonable indication of present material injury to the relevant U.S. industry, the Department normally determines that a reasonable basis exists to impute importer knowledge that there was likely to be material injury by reason of dumped imports. The ITC has found that a reasonable indication of present material injury exists in regard to the Philippines. See ITC Preliminary Determination 65 FR at 9299. As a result, the Department has determined that there is a reasonable basis to believe or suspect that importers knew or should have known that there was likely to be material injury by reason of dumped imports from Enlin.

In determining whether there are “massive imports” over a “relatively short period,” the Department typically compares the import volume of the subject merchandise for at least three months immediately preceding and following the filing of the petition. Imports normally will be considered massive when imports have increased by 15 percent or more during this “relatively short period.” Since there is no verifiable information on the record with respect to Enlin's import volumes, we must use the facts available in accordance with section 776 of the Act. See also Comment 2 of the Decision Memo, Notice of Final Determination of Sales at Less Than Fair Value: Certain Cold Rolled Carbon Quality Steel Flat Products from Venezuela, 65 FR 18047, 18049 (April 6, 2000). Accordingly, we examined U.S. Customs data on imports of stainless steel butt-weld pipe fittings from the Philippines in order to determine whether these data reasonably preclude an increase in shipments of 15 percent or more within a relatively short period for Enlin. These data do not permit the Department to ascertain the import volumes for any individual company that failed to provide verifiable information.

As discussed above in the “Facts Available” section, Enlin has not cooperated to the best of its ability in this investigation, and application of adverse facts available is appropriate. Since there is no verified information on the record with respect to Enlin's volume of imports, and U.S. import statistics are unavailable because stainless steel butt-weld pipe fittings are entered under an HTSUS basket category which includes products other than subject merchandise, we have no choice but to apply the adverse inference that Enlin has made massive imports of the subject merchandise over a relatively short period of time. Therefore, we find that the second criterion for determining whether critical circumstances exist with respect to Enlin's exports of subject merchandise has been met. See, e.g., Notice of Final Determination of Sales at Less Than Fair Value: Collated Roofing Nails from Taiwan, 62 FR 51427, 51429 (October 1, 1997) and Notice of Final Determination of Sales at Less Than Fair Value and Final Affirmative Finding of Critical Circumstances: Elastic Rubber Tape from India, 64 FR 19123, 19124 (April 19, 1999). Because all of the necessary criteria have been met, in accordance with section 733(e) of the Act, the Department preliminarily finds that critical circumstances exist with respect to fittings produced by Enlin.

In regard to the “all others” category, it is the Department's normal practice to conduct its critical circumstances analysis based on the experience of investigated companies. See, Notice of Final Determination of Sales at Less Than Fair Value: Certain Steel Concrete Reinforcing Bars from Turkey (Rebars from Turkey), 62 FR 9737, 9741 (March 4, 1997); see also Preliminary Determination of Sales at Less Than Fair Value: Certain Cold-Rolled, Flat-Rolled Carbon Steel Quality Products from Venezuela, 64 FR 61826, 61832 (November 15, 1999). (For the purpose of this critical circumstances determination, are we including Tung Fong among the “all other” companies because we have no relevant information on the record particular to Tung Fong.) In Rebars from Turkey, the Department determined that, because it found critical circumstances existed for three out of the four companies investigated, critical circumstances also existed for companies covered by the “all others” rate. However, in Notice of Final Determination of Sales at Less Than Fair Value: Stainless Steel Sheet and Strip in Coils from Japan (Stainless Steel from Japan), 64 FR 30574 (June 8, 1999), the Department did not extend its affirmative critical circumstances findings to the “all others” category while finding affirmative critical circumstances for four of the five respondents, because the affirmative determinations were based on adverse facts available. Consistent with Stainless Steel from Japan, we believe it is appropriate to apply the traditional critical circumstances criteria to the “all others” category.

First, in determining whether there is a reasonable basis to believe or suspect that an importer knew or should have known that the exporter was selling the subject merchandise at less than fair value, we look to the “all others” rate, which is based, in the instant case, on facts available. The dumping margin for the “all others” category in the instant case, 34.67 percent, exceeds the 15 percent or more threshold necessary to impute knowledge of dumping for CEP sales, and the 25 percent or more sufficient to impute knowledge of dumping for EP sales. Second, based on the ITC's preliminary material injury determination, we also find that importers knew or should have known that there would be material injury from the dumped merchandise. Finally, with respect to massive imports, we are unable to base our determination on our findings for the mandatory respondent because our determination for the mandatory respondent was based on facts available. We have not inferred, as facts available, that massive imports exist for “all others” because, unlike Enlin, the “all others” companies have not failed to cooperate in this investigation. Therefore, an adverse inference with respect to shipment levels by the “all others” companies is not appropriate.

Instead, consistent with the approach taken in recent investigations, we examined U.S. Customs data on overall imports from the Philippines in order to see if we could ascertain whether an increase in shipments of greater than 15 percent or more occurred within a relatively short period following the point at which importers had reason to believe that a proceeding was likely. See Notice of Final Determination of Sales at Less Than Fair Value: Hot-Rolled Flat-Rolled Carbon-Quality Steel Products from Japan (Hot-Rolled Steel from Japan), 64 FR 24329, 24337 (May 6, 1999), Notice of Final Determinations of Sales at Less Than Fair Value: Certain Cold-Rolled Flat-Rolled Carbon-Quality Steel Products From Argentina, Japan and Thailand (Cold-Rolled Steel from Japan) 65 FR 5520, 5527 (February 4, 2000), and Notice of Final Determinations of Sales at Less Than Fair Value: Certain Cold-Rolled Flat-Rolled Carbon-Quality Steel Products From Venezuela, 64 FR 61826, 61832 (November 15, 1999).

For the purposes of this preliminary determination we examined data for the four months preceding and the four months following the filing of the petition. Information on the record indicates that these data cover an HTS category that includes merchandise other than subject merchandise. Therefore, we cannot rely on these data in determining whether there were massive imports for the “all others” category. Because we are unable to determine on the basis of record evidence that massive imports of subject merchandise from the producers included in the “all others” category did occur and, consequently, that the third criterion necessary for determining affirmative critical circumstances has been met, we have preliminarily determined that critical circumstances do not exist for imports from the Philippines of stainless steel butt-weld pipe fittings for companies in the “all others” category.

Suspension of Liquidation

In accordance with section 733(d) of the Act, for Enlin, we are directing the Customs Service to suspend liquidation of all entries of subject merchandise from the Philippines that are entered, or withdrawn from warehouse, for consumption on or after the date of publication which is 90 days prior to the date of publication of this notice in the Federal Register. For Tung Fong and all other companies, we will instruct the Customs Service to suspend liquidation of all entries of subject merchandise from the Philippines that are entered, or withdrawn from warehouse, for consumption on or after the date of publication of this notice in the Federal Register. We will instruct the Customs Service to require a cash deposit or the posting of a bond equal to the dumping margin indicated in the chart below. These suspension-of-liquidation instructions will remain in effect until further notice. The dumping margins are as follows:

Exporter/manufacturer | Margin (percent)
Enlin Steel Corporation | 60.17
Tung Fong Industrial Co., Ltd | 34.67
All Others | 34.67

ITC Notification

In accordance with section 733(f) of the Act, we have notified the ITC of our determination. If our final determination is affirmative, the ITC will determine before the later of 120 days after the date of this preliminary determination, or 45 days after our final determination, whether these imports are materially injuring, or threaten material injury to, the U.S. industry.

Public Comment

Case briefs for this investigation must be submitted no later than one week after the issuance of the verification reports. Rebuttal briefs must be filed within five days after the deadline for submission of case briefs. A list of authorities used, a table of contents, and an executive summary of issues should accompany any briefs submitted to the Department. Executive summaries should be limited to five pages total, including footnotes. Further, we would appreciate it if parties submitting comments would provide the Department with an additional copy of a public version of any such comments on diskette.

Section 774 of the Act provides that the Department will hold a hearing to afford interested parties an opportunity to comment on arguments raised in case or rebuttal briefs, provided that such a hearing is requested by any interested party. If a request for a hearing is made in an investigation, the hearing will tentatively be held two days after the deadline for submission of the rebuttal briefs, at the U.S. Department of Commerce, 14th Street and Constitution Avenue, NW, Washington, DC 20230. In the event that the Department receives requests for hearings from parties to several stainless steel butt-weld pipe fittings cases, the Department may schedule a single hearing to encompass all those cases. Parties should confirm by telephone the time, date, and place of the hearing 48 hours before the scheduled time. Interested parties who wish to request a hearing, or participate if one is requested, must submit a written request within 30 days of the publication of this notice. Requests should specify the number of participants and provide a list of the issues to be discussed. Oral presentations will be limited to issues raised in the briefs. If this investigation proceeds normally, we will make our final determination no later than 75 days after the date of this preliminary determination.

This determination is issued and published in accordance with sections 733(d) and 777(i)(1) of the Act.

Dated: July 26, 2000.
Troy H. Cribb,
Acting Assistant Secretary for Import Administration.

[FR Doc. 00-19550 Filed 8-1-00; 8:45 am]

BILLING CODE 3510-DS-P